DEPARTMENT OF THE INTERIOR

Bureau of Land Management

[AK-910-1310PP-ARAC]

Notice of Public Meeting, BLM-Alaska Resource Advisory Council

AGENCY: Bureau of Land Management, Alaska State Office, Interior.

ACTION: Notice of public meeting.

SUMMARY: In accordance with the Federal Land Policy and Management Act (FLPMA) and the Federal Advisory Committee Act of 1972 (FACA), the U.S. Department of the Interior, Bureau of Land Management (BLM) Alaska Resource Advisory Council will meet as indicated below.

DATES: The meeting will be held March 25-26, 2008, at the Campbell Creek Science Center, located at BLM Campbell Tract, 6865 Elmore Road, Anchorage, Alaska. On March 25, the meeting starts at 1 p.m. On March 26, the meeting begins at 8:30 a.m., and the council will accept public comment from 1-2 p.m.

FOR FURTHER INFORMATION CONTACT: Sharon Wilson, BLM-Alaska State Office, 222 W. 7th Avenue #13, Anchorage, AK 99513. Telephone (907) 271-4418 or e-mail Sharon_Wilson@blm.gov.

SUPPLEMENTARY INFORMATION: The 15-member Council advises the Secretary of the Interior, through the Bureau of Land Management, on a variety of planning and management issues associated with public land management in Alaska. At this meeting, topics planned for discussion include:

• BLM District updates and resource management planning;

• Alaska land conveyance updates;

• Public health concerns as a component in planning documents;

• Reindeer grazing research;

• Preparing for 2008 fire season;

• Integrated pest management program along the Dalton Highway.

All meetings are open to the public. Depending on the number of people wishing to comment and time available, the time for individual oral comments may be limited, so be prepared to submit written comments if necessary. Before including your address, phone number, e-mail address, or other personal identifying information in your comment, you should be aware that your entire comment—including your personal identifying information—may be made publicly available at any time. While you can ask us in your comment to withhold your personal identifying information from public review, we cannot guarantee that we will be able to do so.

Individuals who plan to attend and need special assistance, such as sign language interpretation, transportation, or other reasonable accommodations, should contact BLM.

Dated: February 26, 2008.
Vincent Galterio,
Acting State Director.

[FR Doc. E8-3985 Filed 2-29-08; 8:45 am]

BILLING CODE 4310-JA-P